DEPARTMENT OF HEALTH AND HUMAN SERVICES

Administration for Children and Families

Proposed Information Collection Activity; Comment Request

Proposed Projects

Title: Refugee Microenterprise and Refugee Home-Based Child Care Microenterprise Development Programs

OMB No.: New

Description: The Office of Refugee Resettlement (ORR) within the Administration for Children and families (ACF) is responsible for resettling thousands of refugees every year from all over the world. The main goal of the ORR (US) refugee domestic resettlement program is to assist the refugees in becoming self-reliant at the shortest time possible. ORR has many different discretionary grants that it employs to accomplish this goal. Two of the discretionary grants are the Refugee Microenterprise Development (MED) and the Refugee Home-Based Child Care Microenterprise Development (HBCC MED) Programs. The goals of the MED program are to assist refugees in becoming economically self-sufficient, assist refugee serving organizations galvanize resources to strengthen their capacities to expand and continue their microenterprise services at an expanded and sustainable level, and enhance the integration to the mainstream and realize the American Dream. The focus of the HBCC Program is on women that have limited opportunity to get employment at livable wages because of limited transferable skills and lack of knowledge of the English language. Through the program women refugees are provided basic training in child care and development, state and local legal requirements to get a license and to establish a home-based child care service. The ultimate goal of the program is to enable the women refugees establish a home-based child care service in their neighborhood.

ORR works with nonprofit organizations in implementing these projects. Currently, there are 22 projects in the Refugee Microenterprise Development Program and 23 projects in the Refugee Home-Based Child Care Microenterprise Development Program. It is critical to collect data through a semi-annual report in order to determine whether or not the programs are achieving their intended goals, to address concerns, issues, and challenges the grantees may be experiencing in implementing their projects on a timely manner, and, for writing Annual Report to Congress.

Respondents: Refugee Microenterprise Development Program 22.

Refugee Home-Based Child Care Microenterprise Development Program 23

Annual Burden Estimates
Instrument | Number of respondents | Number of responses per respondents | Average burden hours per respondents | Total burden hours
Refugee Microenterprise Development Program | 22 | 8 | 4 | 88
Refugee Home-Based Child Care Microenterprise Development Program | 23 | 7 | 4 | 92
Total Burden |  |  |  | 180

Estimated Total Annual Burden Hours: 180

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-02625 Filed 2-9-16; 8:45 am]

BILLING CODE 4184-01-P